DEPARTMENT OF COMMERCE

Foreign-Trade Zones Board

15 CFR Part 400

[Docket No. 090210156-0416-01]

RIN 0625-AA81

Foreign-Trade Zones in the United States

AGENCY: Foreign-Trade Zones Board, International Trade Administration, Commerce.

ACTION: Extension of public comment period.

SUMMARY: On December 30, 2010, the Foreign-Trade Zones Board (the Board) published a proposed rule in the Federal Register and invited comment. The Board's proposed rule would amend the substantive and procedural rules for the authorization of Foreign-Trade Zones (FTZs or zones) and the regulation of zone activity. Specifically, the proposed rule contains changes related to manufacturing and value-added activity in zones, as well as new rules designed to address compliance with the Act's requirement that a grantee provide uniform treatment for all users of a zone. The current comment period is open through April 8, 2011. The Board hereby extends the comment period to May 26, 2011. Additionally, the Board will accept reply comments that are filed by June 27, 2011.

DATES: The public comment period on the proposed rule published at 75 FR 82340-82362, December 30, 2010, will be extended from the original due date of April 8, 2011. Comments must be received on or before May 26, 2011. The FTZ Board also invites reply comments addressing comments submitted pertaining to the proposed regulations; the deadline for reply comments will be June 27, 2011.

ADDRESSES: All comments must be submitted through the Federal eRulemaking Portal at http://www.Regulations.gov, Docket No. ITA-2010-0012, unless the commenter does not have access to the internet. Commenters that do not have access to the internet may submit their comments by mail or hand delivery/courier. All comments should be addressed to Andrew McGilvray, Executive Secretary, Foreign-Trade Zones Board, International Trade Administration, U.S. Department of Commerce, 1401 Constitution Avenue, NW., Room 2111, Washington, DC 20230.

All comments received are a part of the public record and will generally be posted to http://www.Regulations.gov without change. All Personal Identifying Information (e.g., name, address) voluntarily submitted by the commenter may be publicly accessible. Do not submit Confidential Business Information or otherwise sensitive or protected information, as such information may become part of the public record.

The FTZ Board will accept anonymous comments (enter N/A in required fields if you wish to remain anonymous). Attachments to electronic comments will be accepted in Microsoft Word, Excel, WordPerfect, or Adobe portable document file (pdf) formats only. All comments to Regulations.gov must be submitted into Docket Number ITA-2010-0012, and comments should refer to RIN 0625-AA81. The public record concerning these regulations will be maintained in the Office of the Executive Secretary, Foreign-Trade Zones Board, International Trade Administration, U.S. Department of Commerce, 1401 Constitution Avenue, NW., Room 2111, Washington, DC 20230. Written public comments will be available at the facility in accordance with 15 CFR part 4 and may also be available electronically over the internet via http://www.trade.gov/ftz or http://www.Regulations.gov. Questions may be directed to the Foreign-Trade Zones Board staff by calling (202) 482-2862 or via e-mail to ftz@trade.gov.

FOR FURTHER INFORMATION CONTACT: Andrew McGilvray, Executive Secretary, Foreign Trade Zones Board, International Trade Administration, U.S. Department of Commerce, 1401 Constitution Avenue, NW., Room 2111, Washington, DC 20230, (202) 482-2862 or Matthew Walden, Senior Attorney, Office of Chief Counsel for Import Administration, U.S. Department of Commerce, 1401 Constitution Avenue, NW., Room 4610, Washington, DC 20230, (202) 482-2963.

Dated: March 3, 2011.
Ronald K. Lorentzen,
Deputy Assistant Secretary for Import Administration, Chairman, Committee of Alternates, Foreign-Trade Zones Board.

[FR Doc. 2011-5387 Filed 3-8-11; 8:45 am]

BILLING CODE P